DEPARTMENT OF THE INTERIOR

National Park Service

[NPS-WASO-NAGPRA-14033; PPWOCRADN0-PCU00RP14.R50000]

Notice of Inventory Completion: University of Michigan, Ann Arbor, MI

AGENCY: National Park Service, Interior.

ACTION: Notice.

SUMMARY: The University of Michigan has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the University of Michigan. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the University of Michigan at the address in this notice by December 2, 2013.

ADDRESSES: Dr. Ben Secunda, NAGPRA Project Manager, University of Michigan, Office of the Vice President for Research, 4080 Fleming Building, 503 Thompson St., Ann Arbor, MI 48109-1340, telephone (734) 647-9085, email bsecunda@umich.edu.

SUPPLEMENTARY INFORMATION: Notice is here given in accordance with the Native American Graves Protection and Repatriation Act (NAGPRA), 25 U.S.C. 3003, of the completion of an inventory of human remains and associated funerary objects under the control of the University of Michigan, Ann Arbor, MI. The human remains and associated funerary objects were removed from Genesee, Tuscola, and Washtenaw Counties, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by the University of Michigan Museum of Anthropology professional staff in consultation with representatives of the Bay Mills Indian Community, Michigan; Chippewa-Cree Indians of the Rocky Boy's Reservation, Montana; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Potawatomi, Michigan (previously listed as the Huron Potawatomi, Inc.); Pokagon Band of Potawatomi Indians, Michigan and Indiana; Saginaw Chippewa Indian Tribe of Michigan; and the Sault Ste. Marie Tribe of Chippewa Indians, Michigan.

Additional requests for consultation were sent to the Bad River Band of the Lake Superior Tribe of Chippewa Indians of the Bad River Reservation, Wisconsin; Bois Forte Band (Nett Lake) of the Minnesota Chippewa Tribe, Minnesota; Citizen Potawatomi Nation, Oklahoma; Fond du Lac Band of the Minnesota Chippewa Tribe, Minnesota; Forest County Potawatomi Community, Wisconsin; Grand Portage Band of the Minnesota Chippewa Tribe, Minnesota; Lac Courte Oreilles Band of Lake Superior Chippewa Indians of Wisconsin; Lac du Flambeau Band of Lake Superior Chippewa Indians of the Lac du Flambeau Reservation of Wisconsin; Leech Lake Band of the Minnesota Chippewa Tribe, Minnesota; Mille Lacs Band of the Minnesota Chippewa Tribe, Minnesota; Ottawa Tribe of Oklahoma; Prairie Band Potawatomi Nation (previously listed as the Prairie Band of Potawatomi Nation, Kansas); Quechan Tribe of the Fort Yuma Indian Reservation, California & Arizona; Red Cliff Band of Lake Superior Chippewa Indians of Wisconsin; Red Lake Band of Chippewa Indians, Minnesota; Sokaogon Chippewa Community, Wisconsin; St. Croix Chippewa Indians of Wisconsin; Turtle Mountain Band of Chippewa Indians of North Dakota; White Earth Band of the Minnesota Chippewa Tribe, Minnesota; and the Wyandotte Nation.

Hereafter, all tribes listed in this section are referred to as “The Tribes.”

History and Description of the Remains

On an unknown date prior to 1936, human remains representing, at minimum, 1 individual were removed from the Otisville site in Genesee County, MI. The remains of one adult were collected during gravel pit operations and donated to the University of Michigan Museum of Anthropology (UMMA). A burial mound reportedly once existed in the area. No date or time period for the human remains could be established. No known individuals were identified. No associated funerary objects are present.

On December 13, 1933, human remains representing, at minimum, 4 individuals were removed from the Flint site (20GS2) in Genesee County, MI. James Griffin of the UMMA excavated the remains of three adults and one juvenile found during gravel pit operations near the Flint River. The site was noted as having been partially destroyed. No date or time period for the human remains could be established. No known individuals were identified. No associated funerary objects are present.

On an unknown date prior to 1938, human remains representing, at minimum, 4 individuals were removed from the Unknown Flint site in Genesee County, MI. The remains of two adults, one sub-adult, and one child were found in the Great Lakes Collection of the UMMA with an associated tag reading “Flint?” which is believed to mean Flint, MI. No date or time period for the human remains could be established. No known individuals were identified. No associated funerary objects are present.

On an unknown date prior to 1965, human remains representing, at minimum, 4 individuals were identified among a collection of fossils known as the Hibbard Collection held at the UMMA. In 1965, Claude Hibbard, a Professor of Geology at the University of Michigan, donated to the UMMA a large collection of fossils that he collected over years of geological excavations. The human remains were identified and removed from Hibbard's collection during museum cataloguing activities. It is believed that Hibbard collected these human remains, which represent three adults and one adolescent, during one of his geological excavations. A note with the human remains indicates that they were found somewhere near the Flint River in Genesee County, MI. No date or time period for the human remains could be established. No known individuals were identified. No associated funerary objects are present.

On May 24, 1936, human remains representing, at minimum, 3 individuals were removed from the James Kirk Farm site (20TU153) in Tuscola County, MI. Emerson Greenman of the UMMA excavated the human remains of one older adult female, one adult, and one infant from a location near Watrousville, MI. No date or time period for the human remains could be established. No known individuals were identified. No associated funerary objects are present.

On an unknown date prior to 1925, human remains representing, at minimum, 3 individuals were removed from the Atkin site (20TU104) in Tuscola County, MI. On December 16, 1925, farmers unearthed the remains of two adults (one of which was possibly male) and one adolescent female while working on their land near the Cass River. The human remains were collected and donated to the UMMA. The human remains date to the Early Late Woodland Period (850-300 B.C.) based on mortuary treatment. No known individuals were identified. No associated funerary objects are present.

On an unknown date prior to 1936, human remains representing, at minimum, 2 individuals were removed from the Grant site in Tuscola County, MI. A landowner collected the remains of two adults from a mound and donated them to the UMMA. This site may be the same as the Atkin site (20TU104) also in Tuscola County, MI. The human remains date to the Woodland Period (850 B.C. to 1400 A.D.) based on mortuary treatment. No known individuals were identified. No associated funerary objects are present.

Between May 29 and 31, 1936, human remains representing, at minimum, 7 individuals were removed from the Caro site in Tuscola County, MI. M. Titiea collected the remains of two adult females, one adult, one adolescent, one child, one infant, and one neonate as part of an excavation directed by Emerson Greenman of the UMMA. No date or time period for the human remains could be established. No known individuals were identified. No associated funerary objects are present.

On an unknown date, human remains representing, at minimum, 2 individuals were removed from the Long Sleep site in Tuscola County, MI. The burials were discovered during highway construction activities. A local resident collected the remains of one adult male and one adolescent, and donated them to the UMMA in 1994. No date or time period for the human remains could be established. No known individuals were identified. No associated funerary objects are present.

In May 1930, human remains representing, at minimum, 2 individuals were removed from the Pleasant Lake site (20WA285) in Washtenaw County, MI. A Boy Scout troop from Allen Park, MI, collected the remains of one adult male and one child and donated them to the UMMA. No date or time period for the human remains could be established. No known individuals were identified. No associated funerary objects are present.

On April 29, 1931, human remains representing, at minimum, 2 individuals were removed from the Fred Ewald Farm site in Washtenaw County, MI. The remains of one adult female and one child were collected during construction activities near Dexter, MI, and donated to the UMMA. No date or time period for the human remains could be established. No known individuals were identified. No associated funerary objects are present.

On an unknown date prior to 1951, human remains representing, at minimum, 3 individuals were removed from the Dewey site in Washtenaw County, MI. The remains of one adult, one juvenile, and one infant were collected during road construction activities near Chelsea, MI, and donated to the UMMA. The individuals were reportedly found buried in a flexed position. No date or time period for the human remains could be established. No known individuals were identified. No associated funerary objects are present.

On an unknown date prior to 1924, human remains representing, at minimum, 1 individual was removed from the Barr site (20WA70) in Washtenaw County, MI. A local farmer unearthed the cranium of a young adult female while plowing a field near the Saline River. The remains were reportedly found with a brass kettle that was not donated to the UMMA but that suggests the human remains date to the Post-Contact Period. No known individuals were identified. No associated funerary objects are present.

In April 1945, human remains representing, at minimum, 2 individuals were removed from the Wiley site (20WA2) in Washtenaw County, MI. The remains of two adults, both possibly female, were collected during gravel pit operations near Ford Lake and donated to the UMMA. The human remains are believed to date to the Late Woodland Period (500-1400 A.D.) based on the burials in an ossuary. No known individuals were identified. No associated funerary objects are present.

In 1965, human remains representing, at minimum, 1 individual were removed from the Schaffer Gravel Pit site (20WA52) in Washtenaw County, MI. The remains of a young adult female, buried in a flexed position, were found atop a small ridge on property owned by the Schaffer Lumber Company. Police investigated the site and collected the human remains. The police sent the remains to the University of Michigan's Anatomy Department where they were determined to be Native American. On October 7, 1965, archeologists John Halsey and Richard Wilkinson of the UMMA visited the site and collected more human remains. They were able to identify the burial pit and draw a vertical profile of the pit showing the individual had been buried on an east-west axis. The human remains collected by the police and the archeologists were donated to the UMMA in 1966. The human remains date to the Pre-Contact Period. No known individuals were identified. No associated funerary objects are present.

Prior to 1933, human remains representing, at minimum, 1 individual were removed from the GL-2022 site (20WA1) in Washtenaw County, MI. A landowner discovered the remains of a young adult female on his property located near Dexter, MI, and gave them to Wilbert Hinsdale of the UMMA. No date or time period for the human remains could be established. No known individuals were identified. No associated funerary objects are present.

On April 18, 1946, human remains representing, at minimum, 2 individuals were removed from the Pong site (20WA13) in Washtenaw County, MI. A landowner collected the remains of two adults (one of them female) while digging a basement, and donated them to the UMMA. No date or time period for the human remains could be established. No known individuals were identified. No associated funerary objects are present.

In 1956, human remains representing, at minimum, 8 individuals were removed from the Ford Lake site (20WA80) in Washtenaw County, MI. The burials were discovered during gravel pit operations near Ford Lake. Emerson Greenman of the UMMA collected the commingled human remains of three adult females, two adult males, one older adult male, one adolescent, and one child. One individual was noted as being buried in a flexed position, while another individual was noted as being buried in an extended position. No date or time period for the human remains could be established. No known individuals were identified. No associated funerary objects are present.

On August 11, 1960, human remains representing, at minimum, 1 individual were removed from the Ellis Road site in Washtenaw County, MI. The remains of one child were discovered during gravel pit operations near Ypsilanti, MI. A Michigan State Police Officer brought the collected human remains to the UMMA, where they were identified as Native American. The landowners subsequently donated the collections to the museum. No date or time period for the human remains could be established. No known individuals were identified. No associated funerary objects are present.

Between May 24, 1932, and March 5, 1933, human remains representing, at minimum, 22 individuals were removed from the Huron River #1 site (20WA4) in Washtenaw County, MI. The burials were found during gravel pit operations near Ford Lake on land owned by the Ford Motor Company. Amateur archeologists excavated the remains of nine adults (one of whom had been cremated), seven infants/neonates, and six juveniles, along with six associated funerary objects, and donated these collections to the UMMA. The human remains date to the Early Late Woodland Period (500-900 A.D.) based on diagnostic artifacts and mortuary treatment. No known individuals were identified. The 6 associated funerary objects present are one ceramic vessel and five projectile points.

On July 29, 1985, human remains representing, at minimum, 5 individuals were removed from the Home Depot site (20WA176) in Washtenaw County, MI. The remains of two adults, two juveniles, and one infant were found during land development activities associated with a retail store. Archeologists from Michigan State University excavated the site between July 29 and August 16, 1985. Three of the individuals were noted as being buried in a tightly flexed position, lying on their left sides, and oriented toward either the east or northeast. There were also two small shells found buried in association with the infant. The collection was donated to the UMMA. The human remains date to the Early Late Woodland period (900-1200 A.D.) based on mortuary treatment and diagnostic artifacts. No known individuals were identified. The 2 associated funerary objects present are two small shells.

In the summer of 1976, human remains representing, at minimum, 4 individuals were removed from the Staebler site (20WA40) in Washtenaw County, MI. Archeologists from Schoolcraft Community College and the UMMA jointly excavated a site near Highway M-14, where human remains had been found on the surface of the ground. Some of the remains had been cremated. The excavation focused on the recovery of archeological remains from the surface and plow zone. The archeologists collected the remains of three adults and one sub-adult, along with one associated funerary object. The human remains date to the Late Woodland Period (500-1400 A.D.) based on a projectile point found with the remains. No known individuals were identified. The 1 associated funerary object present is a projectile point.

In 1978, human remains representing, at minimum, 1 individual were removed from the Olson site (20WA111) in Washtenaw County, MI. Experts from the UMMA excavated human remains from a site located near the Huron River. An older adult male was found buried in a semi-flexed, slumped position with 47 associated funerary objects. The human remains date to the Early Late Woodland Period (500-900 A.D.) based on diagnostic objects. No known individuals were identified. The 47 funerary objects present are 1 unworked deer scapula, 3 worked animal bones, 1 unworked turkey bone, 5 slate discs, 2 chert cores, 2 chert flakes, 1 chert triangular biface, 2 chert blades, 1 chert drill, 1 beaver tooth, 2 stone abraders, 1 mussel shell, 23 ceramic sherds, 1 groundstone pendant, and 1 argillite disc.

In July 1959, human remains representing, at minimum, 1 individual were removed from the Ann Arbor Water Department site (20WA284) in Washtenaw County, MI. City workers engaged in road construction activities unearthed the remains of one adult and contacted the Ann Arbor Police Department. The police collected the human remains and transferred them to the UMMA. After experts at the museum identified the human remains as being Native American, they were donated to the UMMA. No date or time period for the human remains could be established. No known individuals were identified. No associated funerary objects are present.

In 1952, human remains representing, at minimum, 3 individuals were removed from the Duke Site (20WA71) in Washtenaw County, MI. Landowners unearthed human remains while digging a basement for their house. They contacted the Washtenaw County Sherriff's Department. Deputies collected the commingled human remains and sent them to Howard Buettner and Emerson Greenman, at the UMMA, for identification. Greenman determined the remains to be Native American and to represent one middle-aged adult female, one cremated adult, and one adolescent. The landowners donated the collections to the UMMA. The human remains date to the Woodland-Late Pre-Contact Period (500-1610 A.D.) based on diagnostic artifacts from a non-burial area of the overall site. No known individuals were identified. No associated funerary objects are present.

On October 4, 1994, human remains representing, at minimum, 1 individual were removed from the Kuclo site (20WA289) in Washtenaw County, MI. A backhoe operator found the remains in displaced dirt during construction activities associated with a housing development. The Michigan State Police and Washtenaw County Medical Examiner were contacted to investigate the site. They subsequently contacted Russell Nelson of the UMMA, who collected the human remains along with 23 associated funerary objects. The remains of one adult female were identified as Native American. The collection was ultimately donated to the UMMA. The human remains date to the Late Woodland Period (900-1400 A.D.) based on diagnostic objects. No known individuals were identified. The 23 associated funerary objects present are 7 deer bone fragments, 13 ceramic sherds, 2 lithic shatter flakes, and 1 retouched lithic shatter flake.

On September 1, 1998, human remains representing, at minimum, 1 individual were removed from the Brandon Home site (20WA336) in Washtenaw County, MI. The human remains were found during construction activities in a subdivision of Ann Arbor, MI. The remains of a middle-aged female were found inside a stone-lined chamber, with stones stacked and layered to form a roof. The individual was in supine position, with hands folded over the chest and legs drawn upward. Near the left side of the body, 71 associated funerary objects were found. The human remains date to the Early Late Woodland Period (500-1100 A.D.) based on diagnostic objects. No known individuals were identified. The 71 associated funerary objects present are 1 modified animal bone, 1 lot of small animal bones, 3 animal bone fragments, 1 hoe (made from an elk scapula), 1 slate knife, 1 end scraper, 1 quartz flake, 4 retouched flakes, 1 lot of charcoal, 1 shell fragment, and 56 shell fragments (which include aquatic and terrestrial shells).

In 1996, human remains representing, at minimum, 4 individuals were removed from the Nichols Home site (20WA317) in Washtenaw County, MI. Landowners unearthed human remains while digging a basement for their house. The Washtenaw County Medical Examiner was contacted to investigate the site, and determined the remains were Native American. The Medical Examiner contacted the UMMA to conduct a salvage excavation. A backhoe had removed some of the remains. These were collected from the backfill dirt. Additional remains were also collected from portions of the landowner's yard and driveway that had been graded. Faunal remains found in association with the human remains are reported as associated funerary objects. The remains collected represent one adult, one adolescent, one infant, and one perinate. The human remains date to the Archaic Period (7500-100 B.C.) based on the presence of red ochre. No known individuals were identified. The 2 associated funerary objects are 2 lots of faunal bones representing the remains of a dog and a woodchuck.

Determinations Made by the University of Michigan Museum of Anthropology

Officials of the University of Michigan Museum of Anthropology have determined that:

• Pursuant to 25 U.S.C. 3001(9), the human remains described in this notice are Native American based on cranial morphology, dental traits, accession documentation, and archeological context.

• Pursuant to 25 U.S.C. 3001(9), the human remains described in this notice represent the physical remains of 95 individuals of Native American ancestry.

• Pursuant to 25 U.S.C. 3001(3)(A), the 152 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Bad River Band of the Lake Superior Tribe of Chippewa Indians of the Bad River Reservation, Wisconsin; Bay Mills Indian Community, Michigan; Bois Forte Band (Nett Lake) of the Minnesota Chippewa Tribe, Minnesota; Chippewa-Cree Indians of the Rocky Boy's Reservation, Montana; Citizen Potawatomi Nation, Oklahoma; Fond du Lac Band of the Minnesota Chippewa Tribe, Minnesota; Forest County Potawatomi Community, Wisconsin; Grand Portage Band of the Minnesota Chippewa Tribe, Minnesota; Grand Traverse Band of Ottawa and Chippewa Indians, Michigan; Hannahville Indian Community, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Leech Lake Band of the Minnesota Chippewa Tribe, Minnesota; Match-e-be-nash-she-wish Band of Pottawatomi Indians of Michigan; Mille Lacs Band of the Minnesota Chippewa Tribe, Minnesota; Nottawaseppi Huron Band of the Potawatomi, Michigan (previously listed as the Huron Potawatomi, Inc.); Pokagon Band of Potawatomi Indians, Michigan and Indiana; Prairie Band Potawatomi Nation (previously listed as the Prairie Band of Potawatomi Nation, Kansas); Quechan Tribe of the Fort Yuma Indian Reservation, California & Arizona; Red Cliff Band of Lake Superior Chippewa Indians of Wisconsin; Red Lake Band of Chippewa Indians, Minnesota; Saginaw Chippewa Indian Tribe of Michigan; Sault Ste. Marie Tribe of Chippewa Indians, Michigan; Sokaogon Chippewa Community, Wisconsin; St. Croix Chippewa Indians of Wisconsin; Turtle Mountain Band of Chippewa Indians of North Dakota; and the White Earth Band of the Minnesota Chippewa Tribe, Minnesota.

• Treaties, Acts of Congress, or Executive Orders, indicate that the land from which the Native American human remains and associated funerary objects were removed is the aboriginal land of Bad River Band of the Lake Superior Tribe of Chippewa Indians of the Bad River Reservation, Wisconsin; Bay Mills Indian Community, Michigan; Bois Forte Band (Nett Lake) of the Minnesota Chippewa Tribe, Minnesota; Chippewa-Cree Indians of the Rocky Boy's Reservation, Montana; Citizen Potawatomi Nation, Oklahoma; Fond du Lac Band of the Minnesota Chippewa Tribe, Minnesota; Forest County Potawatomi Community, Wisconsin; Grand Portage Band of the Minnesota Chippewa Tribe, Minnesota; Grand Traverse Band of Ottawa and Chippewa Indians, Michigan; Hannahville Indian Community, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Leech Lake Band of the Minnesota Chippewa Tribe, Minnesota; Little River Band of Ottawa Indians, Michigan; Little Traverse Bay Bands of Odawa Indians, Michigan; Match-e-be-nash-she-wish Band of Pottawatomi Indians of Michigan; Mille Lacs Band of the Minnesota Chippewa Tribe, Minnesota; Nottawaseppi Huron Band of the Potawatomi, Michigan (previously listed as the Huron Potawatomi, Inc.); Ottawa Tribe of Oklahoma; Pokagon Band of Potawatomi Indians, Michigan and Indiana; Prairie Band Potawatomi Nation (previously listed as the Prairie Band of Potawatomi Nation, Kansas); Quechan Tribe of the Fort Yuma Indian Reservation, California & Arizona; Red Cliff Band of Lake Superior Chippewa Indians of Wisconsin; Red Lake Band of Chippewa Indians, Minnesota; Saginaw Chippewa Indian Tribe of Michigan; Sault Ste. Marie Tribe of Chippewa Indians, Michigan; Sokaogon Chippewa Community, Wisconsin; St. Croix Chippewa Indians of Wisconsin; Turtle Mountain Band of Chippewa Indians of North Dakota; White Earth Band of the Minnesota Chippewa Tribe, Minnesota; and the Wyandotte Nation.

• Pursuant to 43 CFR 10.11(c)(1), the disposition of the human remains and associated funerary objects may be to The Tribes.

Additional Requestors and Disposition

Representatives of any Indian tribe or Native Hawaiian organization not identified in this notice that wish to request transfer of control of these human remains and associated funerary objects should submit a written request with information in support of the request to Dr. Ben Secunda, NAGPRA Project Manager, University of Michigan, Office of the Vice President for Research, 4080 Fleming Building, 503 Thompson St., Ann Arbor, MI 48109-1340, telephone (734) 647-9085, email bsecunda@umich.edu, by December 2, 2013. After that date, if no additional requestors have come forward, transfer of control of the human remains and associated funerary objects to The Tribes may proceed.

The University of Michigan is responsible for notifying The Tribes that this notice has been published.

Dated: September 16, 2013.
Sherry Hutt,
Manager, National NAGPRA Program.

[FR Doc. 2013-26007 Filed 10-30-13; 8:45 am]

BILLING CODE 4312-50-P